CIVIL RIGHTS COMMISSION

Notice of Public Meeting of the Minnesota Advisory Committee; Cancellation

AGENCY: Commission on Civil Rights.

ACTION: Notice; cancellation of meeting.

SUMMARY: The Commission on Civil Rights published a notice in the Federal Register concerning a meeting of the Minnesota Advisory Committee. The meeting scheduled for Thursday, May 13, 2021 at 12:00 p.m. (CST) is cancelled. The notice is in the Federal Register of Tuesday, May 4, 2021, in FR Doc. 2021-09269, on page 23671.

FOR FURTHER INFORMATION CONTACT: David Barreras, (202) 499-4066, dbarreras@usccr.gov.

Dated: May 10, 2021.
David Mussatt,
Supervisory Chief, Regional Programs Unit.

[FR Doc. 2021-10197 Filed 5-13-21; 8:45 am]

BILLING CODE P